DEPARTMENT OF AGRICULTURE

Foreign Agricultural Service

Notice of Request for Information (RFI) Inviting Input About the $50 Million Non-Traditional Shelf-Stable Commodities Pilot Program

AGENCY: Foreign Agricultural Service, USDA.

ACTION: Request for information.

SUMMARY: The Foreign Agricultural Service (FAS) of the U.S. Department of Agriculture requests comments from the public to inform an understanding on non-traditional, shelf-stable commodities that could be used in food assistance programming. FAS seeks to learn what commodities could be considered outside the traditional food assistance commodities. This RFI offers interested parties the opportunity to provide FAS with information regarding non-traditional, shelf-stable food aid commodities.

DATES: Comments on this notice must be received by August 23, 2024 in the Federal Register to be assured of consideration.

ADDRESSES: USDA invites submission of the requested information through one of the following methods:

• Federal eRulemaking Portal: Go to http://www.regulations.gov. Follow the online instructions for submitting comments.

• Email: FAS will accept electronic submissions emailed to PPDED@usda.gov. The email should contain the subject line, “Response to RFI: $50 million pilot program.”

Instructions: Response to this RFI is voluntary. All comments submitted in response to this RFI will be included in the record and will be made available to the public. Please be advised that the substance of the comments and the identity of the individuals or entities submitting the comments will be subject to public disclosure. USDA will make the comments publicly available via http://www.regulations.gov.

FOR FURTHER INFORMATION CONTACT: Molly Kairn, Program and Management Analyst, U.S. Department of Agriculture, Foreign Agricultural Service, email PPDED@usda.gov, Phone 202-713-8673.

SUPPLEMENTARY INFORMATION:

Background

In October 2023, USDA announced with USAID the use of $1 billion of Credit Commodity Corporation funding to help fill food security gaps and supply safe and nutritious food to the global community in need.

Of this funding, up to $50 million will be set aside for use in a pilot program that will operate to utilize U.S. commodities that:

1. Have not recently been substantially included in international food assistance programming,

2. Are shelf-stable, and

3. Are suitable for use in feeding food-insecure populations.

These U.S.-grown commodities could include, but are not limited to, nuts; dried fruits; grains such as quinoa, farro, and oats; and canned fish or canned meats.

Request for Information

FAS requests information from the public to help identify non-traditional, shelf-stable commodities that could be used in food assistance programming under the proposed $50 million pilot program. Non-traditional commodities could include, but are not limited to, commodities that have never been used before in food assistance programming, commodities that have not been used in food assistance programming in at least the last 5 years, and/or commodities that can be made into a new product. Additionally, FAS requests information from the public about non-traditional commodities including:

1. Cost per metric tonnage, or other customary commercial unit of measure, including cost to the U.S. Government,

2. Estimated cost of delivery of commodities to a U.S. port,

3. Packaging details, including transportation/containerization requirements and costs,

4. The expected shelf life under normal storage conditions and adverse conditions that might be expected in developing countries (i.e. high humidity and temperatures),

5. Any history/documentation of successful storage performance for the commodity,

6. Nutritional benefits for adults and for children,

7. Essential minerals,

8. Testing requirements for food safety,

9. Consumer preparation instructions, if any, including requirements for potable water, fuel, and cooking time,

10. Whether the commodity meets current Food and Drug Administration requirements,

11. The current production capacity in the United States, and seasonality/availability of the commodity for export,

12. Known challenges and barriers around imports, and

13. Intended age range for population if product is fortified.

Please include any relevant data sources. The response to this RFI is voluntary, and the public is welcome to address any or all the questions and provide additional information that may be relevant to seeking information on non-traditional food aid commodities.

Responses may not exceed ten (10) pages per respondent and should focus on addressing the questions described above. Please do not submit applications, proposals, resumes or promotional materials. The submission shall be written in English and typed on standard 8 1/2″ × 11″ electronic paper (216mm by 297mm paper), single spaced, font size 12, with each page numbered consecutively. Any information obtained from this RFI is intended to be used by the Government on a non-attribution basis for planning and developing a pilot program for non-traditional, shelf-stable commodities. This RFI does not constitute a formal solicitation for proposals or abstracts. Your response to this notice will be treated as information only. FAS will not reimburse any costs incurred in responding to this RFI. Respondents are advised that FAS is under no obligation to acknowledge receipt of the information received or provide feedback to respondents with respect to any information submitted under this RFI. Responses to this RFI do not bind FAS to any further actions related to this topic. Responses will become government property.

No confidential information, such as confidential business information or proprietary information, should be submitted in comments for this RFI. Comments received in response to this notice will be a matter of public record and will be made available for public inspection and posted without change and as received, including any business information or personal information provided in the comments, such as names and addresses. Please do not include anything in your comment submission that you do not wish to share with the public.

Daniel Whitley,
Administrator, Foreign Agricultural Service.

[FR Doc. 2024-15919 Filed 7-18-24; 8:45 am]

BILLING CODE 3410-10-P